DEPARTMENT OF TRANSPORTATION

Federal Aviation Administration

Research, Engineering and Development Advisory Committee

AGENCY: Federal Aviation Administration, DOT.

ACTION: Notice of meeting.

Pursuant to section 10(A)(2) of the Federal Advisory Committee Act (Public Law 92-463; U.S.C. App. 2), notice is hereby given of a meeting of the FAA Research, Engineering and Development (R,E&D) Advisory Committee.

Name: Research, Engineering & Development Advisory Committee.

Time and Date: June 8, 2004—8:30 a.m. to 4:30 p.m.

Place: Federal Aviation Administration, 800 Independence Avenue, SW.,—Bessie Coleman Room, Washington, DC 20591.

Purpose: On June 8 from 8:30 a.m. to 4:30 p.m. the meeting agenda will include receiving from the Committee guidance for FAA's research and development investments in the areas of air traffic services, airports, aircraft safety, human factors and environment and energy.

Attendance is open to the interested public but seating is limited. Persons wishing to attend the meeting or obtain information should contact Gloria Dunderman at the Federal Aviation Administration, 800 Independence Avenue, SW., Washington, DC 20591 (202) 267-8937 or gloria.dundeman@faa.gov.

Members of the public may present a written statement to the Committee at any time.

Issued in Washington, DC, on May 10, 2004.
Joan Bauerlein,
Director of Operations Planning Research & Development.

[FR Doc. 04-11001 Filed 5-13-04; 8:45 am]

BILLING CODE 4910-13-M